DEPARTMENT OF THE INTERIOR

Bureau of Indian Affairs

[145A2100DD.AADD001000.A0E501010.999900]

Renewal of Agency Information Collection for Homeliving Programs and School Closure and Consolidation

AGENCY: Bureau of Indian Affairs, Interior.

ACTION: Notice of submission to OMB.

SUMMARY: In compliance with the Paperwork Reduction Act of 1995, the Assistant Secretary—Indian Affairs is submitting to the Office of Management and Budget (OMB) a request for renewal for the collection of information for the Homeliving Programs (25 CFR 36, Subpart G) and School Closure and Consolidation. The information collection is currently authorized by OMB Control Number 1076-0164, which expires June 30, 2014.

DATES: Submit comments on or before August 25, 2014.

ADDRESSES: You may submit comments on the information collection to the Desk Officer for the Department of the Interior at the Office of Management and Budget, by facsimile to (202) 395-5806 or you may send an email to: OIRA_Submission@omb.eop.gov. Please send a copy of your comments to Juanita Mendoza, U.S. Department of the Interior, Bureau of Indian Education, 1849 C Street NW., Mail Stop 312—SIB, Washington, DC 20240; facsimile: (202) 208-3312; email: Juanita.Mendoza@bie.edu.

FOR FURTHER INFORMATION CONTACT: Juanita Mendoza, (202) 208-6123. You may review the information collection request online at http://www.reginfo.gov. Follow the instructions to review Department of the Interior collections under review by OMB.

SUPPLEMENTARY INFORMATION:

I. Abstract

Public Law 107-110, the No Child Left Behind (NCLB) Act of January 8, 2001, requires all schools including Bureau-funded boarding/residential schools to ensure that all children have a fair, equal, and significant opportunity to obtain a high-quality education and reach, at a minimum, proficiency on challenging academic achievement standards and assessments. The NCLB Act and implementing regulations at 25 CFR part 36 require the Bureau to implement national standards for homeliving situations in all Bureau-funded residential schools. The Bureau must collect information from all Bureau-funded residential schools in order to assess each school's progress in meeting the national standards. The Bureau is seeking renewal of the approval for this information collection to ensure that minimum academic standards for the education of Indian children and criteria for dormitory situations in Bureau-operated schools and Tribally-controlled contact and grant schools are met.

II. Request for Comments

The Bureau of Indian Education (BIE) requests your comments on this collection concerning: (a) The necessity of this information collection for the proper performance of the functions of the agency, including whether the information will have practical utility; (b) The accuracy of the agency's estimate of the burden (hours and cost) of the collection of information, including the validity of the methodology and assumptions used; (c) Ways we could enhance the quality, utility, and clarity of the information to be collected; and (d) Ways we could minimize the burden of the collection of the information on the respondents.

Please note that an agency may not conduct or sponsor, and an individual need not respond to, a collection of information unless it displays a valid OMB Control Number.

It is our policy to make all comments available to the public for review at the location listed in the ADDRESSES section. Before including your address, phone number, email address or other personal identifying information in your comment, you should be aware that your entire comment—including your personal identifying information—may be made publicly available at any time. While you can ask us in your comment to withhold your personal identifying information from public review, we cannot guarantee that we will be able to do so.

III. Data

OMB Control Number: 1076-0164.

Title: Homeliving Programs (25 CFR 36, Subpart G) and School Closure and Consolidation.

Brief Description of Collection: Submission of this information allows the Department of the Interior to ensure that minimum academic standards for the education of Indian children and criteria for dormitory situations in Bureau-operated schools and Indian-controlled contract schools are met. Response is required to obtain a benefit.

Type of Review: Extension without change of currently approved collection.

Respondents: Indian tribes.

Number of Respondents: There are 65 schools with residential programs, of which 27 are Bureau-operated and 52 are tribally operated. Thus, the collection of information must be cleared for 52 of the 65 residential schools.

Total Number of Responses: 730 per year, on average.

Frequency of Response: Annual or on occasion, depending on the activity.

Estimated Time per Response: Ranges from 1 minute to 40 hours, depending on the activity.

Estimated Total Annual Hour Burden: 1,344 hours.

Estimated Total Annual Non-Hour Dollar Cost: $0.

Dated: June 19, 2014.
John Ashley,
Acting Assistant Director for Information Resources.

[FR Doc. 2014-14869 Filed 6-24-14; 8:45 am]

BILLING CODE 4310-6W-P